FEDERAL COMMUNICATIONS COMMISSION

Notice of Public Information Collection(s) Being Submitted to OMB for Review and Approval

June 13, 2000.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 27, 2000. If you anticipate that you will be submitting comments, but find it difficult to do so within the period of time allowed by this notice, you should advise the contact listed below as soon as possible.

ADDRESSES: Direct all comments to Les Smith, Federal Communications Commission, Room 1-A804, 445 12th Street, S.W., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0059

Title: Statement Regarding the Importation of Radio Frequency Devices Capable of Harmful Interference

Form Number: FCC 740

Type of Review: Revision of a currently approved collection

Respondents: Business or other for-profit entities; Not-for-profit institutions; Individuals or households; and State, Local, or Tribal Governments

Number of Respondents: 5,077

Estimate Time Per Response: 1-5 minutes

Frequency of Response: On occasion reporting requirements; Third party disclosure

Total Annual Burden: 28,030 hours

Total Annual Costs: None

Needs and Uses: The FCC, working in conjunction with the U.S. Customs Service, is responsible for the regulation of both authorized radio services and devices that can cause interference. FCC Form 740 must be completed for each radio frequency device which is imported into the United States, and is used to keep non-compliant devices from being distributed to the general public, thereby reducing the potential for harmful interference being caused to authorized communications. FCC Form 740 may now be filed on paper or by electronic means.

OMB Control Number: 3060-0580

Title: Section 76.504, Limits on Carriage of Vertically Integrated Programming

Form Number: N/A

Type of Review: Extension of a currently approved collection

Respondents: Business or other for-profit entities

Number of Respondents: 1,500

Estimate Time Per Response: 15 hours

Frequency of Response: Recordkeeping

Total Annual Burden: 22,500 hours

Total Annual Costs: None

Needs and Uses: The records are to be made available to members of the public, local franchising authorities, and the FCC upon reasonable notice and during regular business hours. The records will be reviewed by local franchising authorities and the FCC to monitor compliance with channel occupancy limits in respective franchise areas.

Federal Communications Commission.
Magalie Roman Salas,
Secretary.

[FR Doc. 00-16183 Filed 6-26-00; 8:45 am]

BILLING CODE 6712-01-P